DEPARTMENT OF LABOR

Employment and Training Administration

[TA-W-56,167]

CIGNA Healthcare Service Operations Chattanooga, TN; Dismissal of Application for Reconsideration

Pursuant to 29 CFR 90.18(C) an application for administrative reconsideration was filed with the Director of the Division of Trade Adjustment Assistance for workers at CIGNA HealthCare, Service Operations, Chattanooga, Tennessee. The application contained no new substantial information which would bear importantly on the Department's determination. Therefore, dismissal of the application was issued.

TA-W-56,167; CIGNA HealthCare, Service Operations Chattanooga, Tennessee (March 14, 2005).

Signed at Washington, DC, this 22nd day of March, 2005.
Timothy Sullivan,
Director, Division of Trade Adjustment Assistance.

[FR Doc. E5-1438 Filed 3-31-05; 8:45 am]

BILLING CODE 4510-30-P